DEPARTMENT OF THE INTERIOR

Bureau of Indian Affairs

25 CFR Part 151

RIN 1076-AD90

Acquisition of Title to Land in Trust: Delay of Effective Date

AGENCY: Bureau of Indian Affairs, Interior.

ACTION: Final rule; delay of effective date.

SUMMARY: In accordance with the memorandum of January 20, 2001, from the Assistant to the President and Chief of Staff, entitled “Regulatory Review Plan,” 66 FR 7701 (Jan. 24, 2001), this document temporarily delays for 60 days the effective date of the rule entitled Acquisition of Title to Land in Trust, published in the Federal Register on January 16, 2001, at 66 FR 3452. That rule concerns procedures used by Indian tribes and individuals to ask the Secretary of the Interior to acquire title to land into trust and criteria used to determine whether to accept land to be held in trust.

DATES: The effective date of the Acquisition of Title to Land in Trust rule, amending 25 CFR part 151, published in the Federal Register on January 16, 2001, at 66 FR 3452, is delayed for 60 days, from January 16, 2001 to a new effective date of March 17, 2001.

FOR FURTHER INFORMATION CONTACT: Terry Virden, Director, Office of Trust Responsibilities, Mail Stop: 4513-MIB, 1849 “C” Street NW., Washington, DC 20240; telephone: 202-208-5831; electronic mail: TerryVirden@BIA.GOV

SUPPLEMENTARY INFORMATION: The Department's implementation of this action without opportunity for public comment, effective immediately upon publication today in the Federal Register, is based on the good cause exceptions in 5 U.S.C. sections 553(b)(3)(B) and 553(d)(3), in that seeking public comment is impractical, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations.

Dated: January 31, 2001.
Timothy S. Elliott,
Acting Deputy Solicitor.

[FR Doc. 01-2963 Filed 2-2-01; 8:45 am]

BILLING CODE 4310-02-M